DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

State Prevention Needs Assessments: Alcohol and Other Drugs, Cohort V

(New)—SAMHSA's Center for Substance Abuse Prevention (CSAP) has awarded contracts to three States (Cohort V) to collect data to assess the nature and extent of substance abuse prevention services needs. The data collection by these States will bring to 30 (Cohorts I-V) the number of States that have implemented a family of prevention needs assessment studies, and will constitute the third cohort to apply the core set of measures, instruments, and methodologies developed and standardized under prior State needs assessment State contracts.

Data will be collected in school surveys and community resource assessments (CRA). The information collected in this project will be combined with existing information from other sources; States may use multiple approaches to assess statewide and substate distributions of risk and protective factors for substance use, of prevention resources, and of prevention services needs. These needs assessment studies will permit cross-State comparison of risk and protection variables to assist State services planning and allocation of State Block Grant funds, and to assist Federal response to the Government Performance and Results Act (GPRA). The estimated annualized burden for the three-year project is shown below.

State/study | Estimates of number of respondents (3 year totals) | Number of responses per respondent (3 year totals) | Average burden per response (hours) | Total response burden (hours)
Alabama:
Student Survey | 6,500 | 1 | 0.75 | 4,875
School Survey Admin. (Contact) | 60 | 1 | 0.50 | 30
School Survey Admin. (Teacher) | 241 | 1 | 0.70 | 169
CRA | 355 | 1 | 1.00 | 355
Michigan:
Student Survey | 12,000 | 1 | 0.75 | 9,000
Student Survey Admin. (Contact) | 146 | 1 | 0.50 | 73
Student Survey Admin. (Teacher) | 438 | 1 | 0.70 | 307
CRA | 310 | 1 | 1.00 | 310
Tennessee:
Student Survey | 100,000 | 1 | 0.75 | 75,000
Student Survey Admin. (Contact) | 250 | 1 | 0.50 | 125
Student Survey Admin. (Teacher) | 3,333 | 1 | 0.70 | 2,333
CRA | 1,100 | 1 | 1.00 | 1,100
Totals | 124,733 |  |  | 93,677
3-year average | 41,578 |  |  | 31,226

Written comments and recommendations concerning the proposed information collection should be sent within 30 days of this notice to: Clarissa Rodrigues-Coelho, Human Resources and Housing Branch, Office of Management and Budget, New Executive Office Building, Room 10235, Washington, D.C. 20503.

Dated: April 12, 2000.
Richard Kopanda,
Executive Officer, SAMHSA.

[FR Doc. 00-9887 Filed 4-19-00; 8:45 am]

BILLING CODE 4162-20-P